DEPARTMENT OF LABOR

Office of the Secretary

Agency Information Collection Activities; Submission for OMB Review; Comment Request; Evaluation of Strategies Used in TechHire and Strengthening Working Families Initiative Grant Programs

AGENCY: Office of the Assistant Secretary for Policy, Chief Evaluation Office, Department of Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed.

Currently, the Department of Labor is soliciting comments concerning the collection of data about the Evaluation of Strategies Used in TechHire and Strengthening Working Families Initiative Grant Programs. A copy of the proposed Information Collection Request (ICR) can be obtained by contacting the office listed below in the addressee section of this notice.

DATES: Written comments must be submitted to the office listed in the addressee section below on or before January 17, 2017.

ADDRESSES: You may submit comments by either one of the following methods: Email: ChiefEvaluationOffice@dol.gov; Mail or Courier: Christina Yancey, Chief Evaluation Office, OASP, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Christina Yancey by email at ChiefEvaluationOffice@dol.gov.

SUPPLEMENTARY INFORMATION: I. Background: The Chief Evaluation Office (CEO), in collaboration with the Employment and Training Administration (ETA), of the U.S. Department of Labor (DOL) seeks to build evidence about effective approaches to prepare Americans with skills and connect them to well-paying, middle- and high-skilled, and high growth jobs in H-lB industries (such as IT, healthcare, advanced manufacturing, financial services, and broadband). There is a particular interest in special populations and individuals who have traditionally faced barriers to training and employment opportunities and in learning about approaches to serving these populations and addressing barriers they may face, such as youth and young adults, parents with childcare needs, individuals with disabilities, individuals with limited English proficiency, and individuals with criminal records. The evaluation will advance the evidence on innovative approaches being used to meet these goals in the TechHire Partnership (TechHire) and Strengthening Working Families Initiative (SWFI) grant programs. The evaluation will include two components, an implementation study and an impact study.

The goal of the impact study is to provide rigorous evidence on the effectiveness of strategies used in the TechHire and SWFI grant programs. The impact study will consist of both a randomized controlled trial (RCT) and a quasi-experimental design (QED) evaluation. Six grantees will be selected to participate in an RCT. Eligible program applicants will be randomly assigned to either a program group that is offered the program or a control group that is not. The RCT will collect baseline data on key demographics and other characteristics through a random assignment intake form, employment and earnings outcomes through unemployment insurance (UI), wage record data from the National Directory of New Hires (NDNH), or, as needed, UI records from state agencies, and follow up surveys of study participants at about 6 and 18 to 24 months after random assignment. The follow up surveys will provide additional outcome measures such as employment stability and quality, completion of training, and involvement with the criminal justice system.

The QED will include all 53 TechHire and SWFI grantees and use the pooled RCT control group as the comparison group using propensity score matching. The QED will collect data from an existing MIS and UI wage record data from NDNH and/or state agencies. It will also use data from the implementation study (described below) in an effort to analyze how variation in program impacts correlates with implementation factors.

A key goal of the implementation study is to provide systematic information on all of the grantees and link the findings to impacts. For all 53 grantees, the implementation study will review grantee applications, conduct web-based surveys with grantees and partners, conduct semi-structured telephone interviews with grantees and partners, and collect data on individual participants through an existing grantee quarterly reports MIS. Additionally, for the 6 grantees in the RCT, the implementation study will include two rounds of field visits involving a mix of observations, interviews, and case file reviews. This will provide critical context for understanding the impact findings from the RCT.

This Federal Register Notice provides the opportunity to comment on proposed data collection instruments that will be used in the evaluation:

* Random assignment intake form. The random assignment process will begin with a short baseline form that collects electronically key demographic and other individual characteristics and contact information for follow-up.

* 6 Month Participant Follow-up Survey. The survey will be administered 6 months after random assignment to the treated and control groups. To better understand the contrast between the treated and control groups 6 months after random assignment, this relatively brief survey will collect information on service receipt, employment, and job placement.

* 18 Month Participant Follow-up Survey. The survey will be administered 18 months after random assignment to the treated and control groups. The purpose of the survey is to collect information on outcomes not available in existing data. These include current and past employment situation, hours worked, wages, shift work, employer benefits, job search activities, job satisfaction, promotion, education and training participation, criminal justice involvement, and child care.

* Grantee Survey. The survey will be administered to all 53 TechHire and SWFI grantees in 2018. The purpose of the survey is to collect uniform information on implementation status and a variety of program characteristics to support implementation analysis of the grant programs. These data will allow us to examine whether there is a correlation between program characteristics and impacts.

* Partner Survey. The survey will be administered to all partners of all 53 TechHire and SWFI grantees. The survey will explore the strength of relationships between the partners in the TechHire and SWFI grant programs. The survey will collect information on select elements of partner interactions (frequency of communication, level of collaboration, and service referrals).

* Protocol for In-depth Telephone Interview with Grantees. Within 6 months after the grantee survey, the evaluation team will conduct in-depth telephone interviews with each grantee. The protocol will be used to learn about challenges, successes, and barriers to implementation that are difficult to obtain using a survey.

* Protocol for In-depth Telephone Interview with Partners. Within 6 months after the partner survey, the evaluation team will conduct in-depth telephone interviews with one partner for each grantee. The protocol will be used to learn about the degree of engagement and successful strategies that are difficult to obtain using a survey.

* Site Visit Protocols. During two rounds of implementation site visits to the 6 grantees in the RCT, the evaluation team will conduct in-depth interviews with program staff and partners. The site visit protocols will be tailored to each grantee and collect information on implementation status, changes in implementation during random assignment, and degree of coordination.

II. Desired Focus of Comments: Currently, the Department of Labor is soliciting comments concerning the above data collection for the Evaluation of Strategies Used in the TechHire and SWFI programs. DOL is particularly interested in comments that do the following:

* Evaluate whether the proposed collection of information is necessary for the proper performance functions of the agency, including whether the information will have practical utility;

* evaluate the accuracy of the agency's burden estimate of the proposed information collection, including the validity of the methodology and assumptions;

* enhance the quality, utility, and clarity of the information to be collected; and

* minimize the burden of the collection of information on those who are to respond, including through the use of appropriate automated, electronic, mechanical, or other technological collection techniques or other forms of information technology—for example, permitting electronic submissions of responses.

III. Current Actions: At this time, the Department of Labor is requesting clearance for the implementation site visit protocols, the focus group protocols, and a survey.

Type of Review: New information collection request.

OMB Control Number: 1290-0NEW.

Affected Public: TechHire and SWFI program applicants, grantees, and partners.

Estimated Total Burden Hours
Respondents | Estimated total respondents | Number of responses per respondent | Average burden time per response (hours) | Estimated total burden (hours)
Impact Study
Baseline Intake Form | 4,800 | 1 | .50 | 2,400
Participant Survey at 6-months | * 3,840 | 1 | .50 | 1,920
Participant Survey at 18-24 months | * 3,840 | 1 | .75 | 2,880
Implementation Study
Web-based survey of grantees | 53 | 1 | .50 | 26.50
Web-based survey of partners | ᵃ 530 | 1 | .50 | 265
Semi-structured telephone interviews with grantees | 53 | 1 | .75 | 39.75
Semi-structured telephone interviews with partners | 53 | 1 | .75 | 39.75
Implementation site visits |  |  |  |
Program staff | 120 | 1 | .50 | 60.0
Partners | 96 | 1 | .50 | 48.0
Total | ᵇ 5,705 |  |  | 7,679
* Assumes a sample of 4,800 with an 80 percent response rate.
ᵃ Assumes 10 partners per grantee.
ᵇ So as not to double-count participants who complete the baseline intake form and then also complete the follow-up participant surveys, this total only counts the 4,800 from the baseline intake form. However, all hours are calculated for the total burden.

Comments submitted in response to this request will be summarized and/or included in the request for Office of Management and Budget approval of the information collection request; they will also become a matter of public record.

Dated: November 3, 2016.
Sharon Block,
Principal Deputy Assistant Secretary for Policy, U.S. Department of Labor.

[FR Doc. 2016-27681 Filed 11-16-16; 8:45 am]

BILLING CODE 4510-HX-P